DEPARTMENT OF COMMERCE

International Trade Administration

[A-122-823]

Certain Cut-to-Length Carbon Steel Plate From Canada: Final Results of Antidumping Duty Administrative Review

AGENCY: Import Administration, International Trade Administration, Department of Commerce.

SUMMARY: On September 4, 2001, the Department of Commerce (the Department) published the preliminary results of its administrative review of the antidumping duty order on certain cut-to-length carbon steel plate (CTL plate) from Canada (66 FR 46258). This review covers one manufacturer/exporter of CTL plate, Clayson Steel Inc. (Clayson), for the period August 1, 1999 through December 31, 1999.

We gave interested parties an opportunity to comment on our preliminary results. No interested parties filed comments on the preliminary results and no request for a hearing was received by the Department. We have not changed the results from those presented in the preliminary results of review, and we will instruct the U.S. Customs Service to assess antidumping duties on suspended entries for Clayson at the rate determined in the preliminary results (see “Final Results of Review” section below).

EFFECTIVE DATE: November 19, 2001.

FOR FURTHER INFORMATION CONTACT: Mark Hoadley at (202) 482-0666 or Julio Fernandez at (202) 482-0190, Import Administration, International Trade Administration, U.S. Department of Commerce, 14th Street and Constitution Avenue, NW., Washington, DC 20230.

SUPPLEMENTARY INFORMATION:

Applicable Statute

Unless otherwise indicated, all citations to the statute are references to the Tariff Act of 1930 (the Act), as amended. In addition, unless otherwise indicated, all citations to the Department's regulations are to the regulations codified at 19 CFR part 351 (2000).

Background

On September 4, 2001, the Department published the preliminary results of the administrative review of the antidumping duty order on CTL plate from Canada. See Certain Cut-to-Length Carbon Steel Plate From Canada: Preliminary Results of Antidumping Duty Administrative Review, 66 FR 46258 (September 4, 2001) (Preliminary Results). We invited parties to comment on our preliminary results of review. We received no comments on our preliminary results and have made no changes to our calculations. This review covers imports of subject merchandise from Clayson, a Canadian manufacturer/exporter. The period of review (POR) for Clayson is August 1, 1999 through December 31, 1999. The Department is conducting this review in accordance with section 751 of the Act.

Scope of the Antidumping Duty Order

CTL plate includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule of the United States (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included in this review are flat-rolled products of non-rectangular cross-section where such cross-section is achieved subsequent to the rolling process (i.e., products which have been “worked after rolling”)—for example, products which have been beveled or rounded at the edges. Excluded from this review is grade X-70 plate. Also excluded is cut-to-length carbon steel plate meeting the following criteria: (1) 100% dry steel plates, virgin steel, no scrap content (free of Cobalt-60 and other radioactive nuclides); (2) .290 inches maximum thickness, plus 0.0, minus .030 inches; (3) 48.00 inch wide, plus .05, minus 0.0 inches; (4) 10 foot lengths, plus 0.5, minus 0.0 inches; (5) flatness, plus/minus 0.5 inch over 10 feet; (6) AISI 1006; (7) tension leveled; (8) pickled and oiled; and (9) carbon content, 0.03 to 0.08 (maximum).

The HTSUS item numbers are provided for convenience and U.S. Customs Service (Customs) purposes. The written description remains dispositive of the scope of this review.

Period of Review

The POR is August 1, 1999 through December 31, 1999. See the “Cash Deposit Requirements” section below for an explanation of this truncated POR.

Comments From Interested Parties and Changes Since the Preliminary Results

We received no comments from interested parties in response to our preliminary results. We have made no changes in the margin calculations.

Final Results of Review

The Department has not altered its determination from the Preliminary Results. The weighted-average margin for Clayson is 1.37 percent for the period August 1, 1999 through December 31, 1999.

The Department shall determine, and Customs shall assess, antidumping duties on all appropriate entries. We will direct Customs to assess the resulting percentage against the entered Customs values for the subject merchandise on each entry of subject merchandise during the POR.

Cash Deposit Requirements

As a result of a sunset review by the ITC, the Department has revoked the antidumping duty order for CTL plate from Canada, effective January 1, 2000. See Revocation of Antidumping and Countervailing Duty Orders on Certain Carbon Steel Products From Canada, Germany, Korea, the Netherlands, and Sweden, 65 FR 78467 (December 15, 2000) (Revocation Notice). Therefore, we have instructed Customs to terminate suspension of liquidation for all entries of CTL plate made on or after January 1, 2000, and further calculation of antidumping cash deposit requirements for this merchandise is no longer necessary.

Notification of Interested Parties

This notice also serves as a final reminder to importers of their responsibility under section 351.402(f) of our regulations to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the disposition of proprietary information disclosed under APO as explained in the administrative order itself. Timely written notification of the return/destruction of APO materials or conversion to judicial protective order is hereby requested. Failure to comply with the regulations and the terms of an APO is a sanctionable violation.

These final results of administrative review are issued and published in accordance with sections 751(a)(1) and 777(i)(1) of the Act (19 U.S.C. 1675(a)(1) and 19 U.S.C. 1677f(i)(1)).

Dated: November 9, 2001.
Joseph A. Spetrini,
Deputy Assistant Secretary for Import Administration, Group III.

[FR Doc. 01-28863 Filed 11-16-01; 8:45 am]

BILLING CODE 3510-DS-P